DEPARTMENT OF JUSTICE

Antitrust Division

Notice Pursuant to the National Cooperative Research and Production Act of 1993—Joint Venture Under Tip Award No. 70NANB10H009

Notice is hereby given that, on January 15, 2010, pursuant to Section 6(a) of the National Cooperative Research and Production Act of 1993, 15 U.S.C. 4301 et seq. (“the Act”), the Joint Venture under TIP Award No. 70NANB10H009 (“JV TIP H009”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: wTe Corporation, Bedford, MA; Energy Research Company, Staten Island, NY; and National Recovery Technologies, Inc., Nashville, TN. The general area of JV TIP H009's planned activity is to develop, scale-up and integrate transformational technologies for high-speed scrap sortation of mixed metals by alloy type, and for real-time, molten metal analysis of high-temperature alloys.

Patricia A. Brink,
Deputy Director of Operations, Antitrust Division.

[FR Doc. 2010-3084 Filed 2-22-10; 8:45 am]

BILLING CODE 4410-11-M